DEPARTMENT OF THE TREASURY

Submission for OMB Review; Comment Request

September 14, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 4, 2004 to be assured of consideration.

Internal Revenue Service (IRS)

OMB Number: 1545-1882.

Form Number: IRS Form 8877.

Type of Review: Extension.

Title: Request for Waiver of Annual Income Recertification Requirement for the Low-Income Housing Credit.

Description: Owners of low-income housing buildings that are 100% occupied by low-income tenants may request a waiver from the annual recertification of income requirement, as provided by Code section 42(g)(8)(B).

Respondents: Business or other for-profit, individuals or households.

Estimated Number of Respondents/Recordkeepers: 200.

Estimated Burden Hours Respondent/Recordkeeper:

Recordkeeping | 5 hr., 15 min.
Learning about the law or the form | 1 hr., 17 min.
Preparing, Copying, assembling and sending the form to the IRS | 1 hr., 25 min.

Frequency of response: On occasion.

Estimated Total Reporting/Recordkeeping Burden: 1,598 hours.

OMB Number: 1545-1890.

Revenue Procedure Number: Revenue Procedure 2004-44.

Type of Review: Extension.

Title: Extension of the Amortization Period.

Description: This revenue procedure describes the process for obtaining an extension of the amortization period for the minimum funding standards set forth in section 412(e) of the Code.

Respondents: Business of other for-profit, not-for-profit institutions, farms, State, Local or Tribal Government.

Estimated Number of Respondents/Recordkeepers: 25.

Estimated Burden Hours Respondent/Recordkeeper: 100 hours.

Frequency of response: Other (one response).

Estimated Total Reporting/Recordkeeping Burden: 2,500 hours.

Clearance Officer: Paul H. Finger (202) 622-4078, Internal Revenue Service, Room 6516, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 04-22304 Filed 10-4-04; 8:45 am]

BILLING CODE 4830-01-P